DEPARTMENT OF HOMELAND SECURITY

Federal Emergency Management Agency

44 CFR Part 64

[Docket ID FEMA-2010-0003; Internal Agency Docket No. FEMA-8159]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Connecticut:
Beacon Falls, Town of, New Haven County | 090072 | June 27, 1975, Emerg; March 1, 1979, Reg; December 17, 2010, Susp. | Dec. 17, 2010 | Dec. 17, 2010.
Bethany, Town of, New Haven County | 090144 | July 24, 1975, Emerg; August 23, 1977, Reg; December 17, 2010, Susp. | ......do | do.
Branford, Town of, New Haven County | 090073 | April 5, 1973, Emerg; December 15, 1977, Reg; December 17, 2010, Susp. | ......do | do.
Cheshire, Town of, New Haven County | 090074 | March 13, 1975, Emerg; July 16, 1981, Reg; December 17, 2010, Susp. | ......do | do.
Derby, City of, New Haven County | 090075 | February 4, 1972, Emerg; September 15, 1977, Reg; December 17, 2010, Susp. | ......do | do.
Guilford, Town of, New Haven County | 090077 | October 20, 1972, Emerg; May 1, 1978, Reg; December 17, 2010, Susp. | ......do | do.
Hamden, Town of, New Haven County | 090078 | May 3, 1973, Emerg; June 15, 1979, Reg; December 17, 2010, Susp. | ......do | do.
Madison, Town of, New Haven County | 090079 | July 19, 1973, Emerg; September 15, 1978, Reg; December 17, 2010, Susp. | ......do | do.
Meriden, City of, New Haven County | 090081 | April 11, 1974, Emerg; September 30, 1982, Reg; December 17, 2010, Susp. | ......do | do.
Milford, City of, New Haven County | 090082 | January 14, 1972, Emerg; September 29, 1978, Reg; December 17, 2010, Susp. | ......do | do.
Naugatuck, Borough of, New Haven County | 090137 | June 26, 1975, Emerg; August 15, 1979, Reg; December 17, 2010, Susp. | ......do | do.
North Branford, Town of, New Haven County | 090085 | October 20, 1972, Emerg; July 3, 1978, Reg; December 17, 2010, Susp. | ......do | do.
Orange, Town of, New Haven County | 090087 | May 25, 1973, Emerg; March 18, 1980, Reg; December 17, 2010, Susp. | ......do | do.
Prospect, Town of, New Haven County | 090151 | July 1, 1975, Emerg; February 4, 1977, Reg; December 17, 2010, Susp. | ......do | do.
Seymour, Town of, New Haven County | 090088 | December 18, 1974, Emerg; July 3, 1978, Reg; December 17, 2010, Susp. | ......do | do.
Southbury, Town of, New Haven County | 090089 | August 31, 1973, Emerg; March 28, 1980, Reg; December 17, 2010, Susp. | ......do | do.
Wallingford, Town of, New Haven County | 090090 | June 25, 1973, Emerg; September 15, 1978, Reg; December 17, 2010, Susp. | ......do | do.
Waterbury, City of, New Haven County | 090091 | May 23, 1975, Emerg; November 1, 1979, Reg; December 17, 2010, Susp. | ......do | do.
West Haven, City of, New Haven County | 090092 | October 6, 1972, Emerg; January 17, 1979, Reg; December 17, 2010, Susp. | ......do | do.
Wolcott, Town of, New Haven County | 090093 | August 6, 1975, Emerg; July 5, 1982, Reg; December 17, 2010, Susp. | ......do | do.
Region III
Virginia:
Alleghany County, Unincorporated Areas | 510009 | February 22, 1974, Emerg; July 16, 1987, Reg; December 17, 2010, Susp. | ......do | do.
Botetourt County, Unincorporated Areas | 510018 | September 6, 1974, Emerg; June 15, 1978, Reg; December 17, 2010, Susp. | ......do | do.
Buchanan, Town of Botetourt County | 510019 | January 10, 1974, Emerg; November 2, 1977, Reg; December 17, 2010, Susp. | ......do | do.
Clifton Forge, Town of, Alleghany County | 510038 | February 1, 1974, Emerg; September 1, 1978, Reg; December 17, 2010, Susp. | ......do | do.
Covington, City of, Independent City | 510040 | March 13, 1974, Emerg; January 3, 1979, Reg; December 17, 2010, Susp. | ......do | do.
Fincastle, Town of, Botetourt County | 510020 | November 17, 1975, Emerg; May 15, 1978, Reg; December 17, 2010, Susp. | ......do | do.
Iron Gate, Town of, Alleghany County | 510220 | May 13, 1975, Emerg; January 16, 1987, Reg; December 17, 2010, Susp. | ......do | do.
Troutville, Town of, Botetourt County | 510021 | February 26, 1975, Emerg; October 14, 1977, Reg; December 17, 2010, Susp. | ......do | do.
Region IV
Florida:
Alford, Town of, Jackson County | 120580 | N/A, Emerg; July 14, 2005, Reg; December 17, 2010, Susp. | ......do | do.
Bonifay, City of, Holmes County | 120116 | July 25, 1975, Emerg; August 1, 1987, Reg; December 17, 2010, Susp. | ......do | do.
Callahan, Town of, Nassau County | 120171 | June 2, 1976, Emerg; April 4, 1983, Reg; December 17, 2010, Susp. | ......do | do.
Campbellton, Town of, Jackson County | 120126 | N/A, Emerg; April 28, 2008, Reg; December 17, 2010, Susp. | ......do | do.
Cottondale, City of, Jackson County | 120583 | N/A, Emerg; December 30, 1993, Reg; December 17, 2010, Susp. | ......do | do.
Esto, Town of, Holmes County | 120630 | N/A, Emerg; March 19, 1996, Reg; December 17, 2010, Susp. | ......do | do.
Fernandina Beach, City of, Nassau County | 120172 | August 16, 1974, Emerg; January 14, 1977, Reg; December 17, 2010, Susp. | ......do | do.
Graceville, City of, Jackson County | 120127 | April 2, 1975, Emerg; December 15, 1990, Reg; December 17, 2010, Susp. | ......do | do.
Grand Ridge, Town of, Jackson County | 120128 | March 8, 1976, Emerg; May 1, 1987, Reg; December 17, 2010, Susp. | ......do | do.
Hilliard, Town of, Nassau County | 120573 | March 16, 1998, Emerg; October 1, 2003, Reg; December 17, 2010, Susp. | ......do | do.
Holmes County, Unincorporated Areas | 120420 | March 29, 1978, Emerg; December 5, 1990, Reg; December 17, 2010, Susp. | ......do | do.
Jackson County, Unincorporated Areas | 120125 | August 18, 1975, Emerg; December 15, 1990, Reg; December 17, 2010, Susp. | ......do | do.
Malone, Town of, Jackson County | 120623 | October 30, 1984, Emerg; December 15, 1990, Reg; December 17, 2010, Susp. | ......do | do.
Marianna, City of, Jackson County | 120129 | March 20, 1975, Emerg; May 1, 1987, Reg; December 17, 2010, Susp. | ......do | do.
Nassau County, Unincorporated Areas | 120170 | July 9, 1971, Emerg; August 15, 1984, Reg; December 17, 2010, Susp. | ......do | do.
Noma, Town of, Holmes County | 120631 | N/A, Emerg; March 19, 1996, Reg; December 17, 2010, Susp. | ......do | do.
Ponce de Leon, Town of, Holmes County | 120117 | October 30, 1975, Emerg; December 5, 1990, Reg; December 17, 2010, Susp. | ......do | do.
Sneads, Town of, Jackson County | 120130 | August 5, 1977, Emerg; May 1, 1987, Reg; December 17, 2010, Susp. | ......do | do.
Westville, Town of, Holmes County | 120118 | November 14, 1975, Emerg; June 1, 1987, Reg; December 17, 2010, Susp. | ......do | do.
Georgia: Bartow, City of, Jefferson County | 130115 | October 22, 1990, Emerg; January 1, 1992, Reg; December 17, 2010, Susp. | ......do | do.
Dexter, Town of, Laurens County | 130607 | November 5, 2008, Emerg; December 17, 2010, Reg; December 17, 2010, Susp. | ......do | do.
Irwinton, City of, Wilkinson County | 130440 | August 4, 1975, Emerg; September 4, 1986, Reg; December 17, 2010, Susp. | ......do | do.
Ivey, Town of, Wilkinson County | 130420 | August 6, 1979, Emerg; June 3, 1986, Reg; December 17, 2010, Susp. | ......do | do.
Jeffersonville, City of, Twiggs County | 130508 | September 27, 1994, Emerg; December 17, 2010, Reg; December 17, 2010, Susp. | ......do | do.
Johnson County, Unincorporated Areas | 130567 | January 11, 1999, Emerg; December 17, 2010, Reg; December 17, 2010, Susp. | ......do | do.
Oglethorpe County, Unincorporated Areas | 130370 | June 10, 1998, Emerg; November 1, 2006, Reg; December 17, 2010, Susp. | ......do | do.
Rincon, City of, Effingham County | 130426 | November 5, 1976, Emerg; February 19, 1987, Reg; December 17, 2010, Susp. | ......do | do.
Stapleton, City of, Jefferson County | 130433 | May 24, 1976, Emerg; August 19, 1986, Reg; December 17, 2010, Susp. | ......do | do.
Waynesboro, City of, Burke County | 130025 | May 2, 1975, Emerg; August 1, 1987, Reg; December 17, 2010, Susp. | ......do | do.
Wilkinson County, Unincorporated Areas | 135167 | December 18, 2009, Emerg; December 17, 2010, Reg; December 17, 2010, Susp. | ......do | do.
Mississippi:
Belmont, Town of, Tishomingo County | 280287 | April 15, 1998, Emerg; December 17, 2010, Reg; December 17, 2010, Susp. | ......do | do.
Burnsville, City of, Tishomingo County | 280264 | April 17, 1975, Emerg; January 17, 1991, Reg; December 17, 2010, Susp. | ......do | do.
Chunky, Town of, Newton County | 280240 | April 23, 1979, Emerg; August 1, 1986, Reg; December 17, 2010, Susp. | ......do | do.
Forest, City of, Scott County | 280148 | December 5, 1974, Emerg; February 1, 1987, Reg; December 17, 2010, Susp. | ......do | do.
Iuka, City of, Tishomingo County | 280266 | April 4, 1975, Emerg; June 19, 1989, Reg; December 17, 2010, Susp. | ......do | do.
Lake, Town of, Scott County | 280149 | April 23, 1979, Emerg; August 5, 1985, Reg; December 17, 2010, Susp. | ......do | do.
Morton, City of, Scott County | 280150 | June 18, 1975, Emerg; September 29, 1986, Reg; December 17, 2010, Susp. | ......do | do.
Newton, City of, Newton County | 280121 | April 15, 1974, Emerg; April 15, 1980, Reg; December 17, 2010, Susp. | ......do | do.
Newton County, Unincorporated Areas | 280231 | April 23, 1979, Emerg; January 2, 1980, Reg; December 17, 2010, Susp. | ......do | do.
Pearl River Valley Water Supply District, Hinds, Leake, Madison, Rankin and Scott Counties | 280338 | N/A, Emerg; March 5, 1993, Reg; December 17, 2010, Susp. | ......do | do.
Scott County, Unincorporated Areas | 280280 | April 23, 1979, Emerg; September 1, 1987, Reg; December 17, 2010, Susp. | ......do | do.
Sebastopol, Village of, Scott County | 280151 | April 23, 1979, Emerg; June 3, 1986, Reg; December 17, 2010, Susp. | ......do | do.
Tishomingo County, Unincorporated Areas | 280283 | October 30, 1991, Emerg; March 15, 1993, Reg; December 17, 2010, Susp. | ......do | do.
Union, Town of, Neshoba and Newton Counties. | 280122 | March 7, 1978, Emerg; April 15, 1980, Reg; December 17, 2010, Susp. | ......do | do.
Region V
Illinois:
Brussels, Village of, Calhoun County | 170747 | June 30, 1980, Emerg; February 4, 1981, Reg; December 17, 2010, Susp. | ......do | do.
Byron, City of, Ogle County | 170526 | July 21, 1975, Emerg; December 4, 1984, Reg; December 17, 2010, Susp. | ......do | do.
Calhoun County, Unincorporated Areas | 170018 | November 2, 1973, Emerg; February 1, 1984, Reg; December 17, 2010, Susp. | ......do | do.
Forreston, Village of, Ogle County | 170527 | July 21, 1975, Emerg; August 19, 1987, Reg; December 17, 2010, Susp. | ......do | do.
Hamburg, Village of, Calhoun County | 170734 | December 6, 1973, Emerg; February 15, 1984, Reg; December 17, 2010, Susp. | ......do | do.
Hardin, Village of, Calhoun County | 170738 | February 1, 1974, Emerg; February 4, 1981, Reg; December 17, 2010, Susp. | ......do | do.
Kampsville, Village of, Calhoun County | 170735 | January 30, 1974, Emerg; February 4, 1981, Reg; December 17, 2010, Susp. | ......do | do.
Leaf River, Village of, Ogle County | 170528 | December 12, 1975, Emerg; June 18, 1987, Reg; December 17, 2010, Susp. | ......do | do.
Mount Carroll, City of, Carroll County | 170020 | July 23, 1974, Emerg; September 29, 1986, Reg; December 17, 2010, Susp. | ......do | do.
Ogle County, Unincorporated Areas | 170525 | August 17, 1973, Emerg; April 5, 1988, Reg; December 17, 2010, Susp. | ......do | do.
Oregon, City of, Ogle County | 170530 | April 30, 1975, Emerg; October 15, 1981, Reg; December 17, 2010, Susp. | ......do | do.
Rochelle, City of, Lee and Ogle Counties | 170532 | March 7, 1975, Emerg; August 19, 1986, Reg; December 17, 2010, Susp. | ......do | do.
Indiana:
Bloomington, City of, Monroe County | 180169 | July 28, 1972, Emerg; June 15, 1978, Reg; December 17, 2010, Susp. | ......do | do.
Ellettsville, Town of, Monroe County | 180170 | April 14, 1974, Emerg; July 18, 1985, Reg; December 17, 2010, Susp. | ......do | do.
Monroe County, Unincorporated Areas | 180444 | June 18, 1985, Emerg; April 1, 1988, Reg; December 17, 2010, Susp. | ......do | do.
Ohio: Butler County, Unincorporated Areas | 390037 | N/A, Emerg; October 5, 1989, Reg; December 17, 2010, Susp. | ......do | do.
Fairfield, City of, Butler County | 390038 | October 21, 1974, Emerg; March 15, 1979, Reg; December 17, 2010, Susp. | ......do | do.
Franklin, City of, Warren County | 390556 | September 7, 1973, Emerg; November 5, 1980, Reg; December 17, 2010, Susp. | ......do | do.
Hamilton, City of, Butler County | 390039 | April 4, 1974, Emerg; July 15, 1977, Reg; December 17, 2010, Susp. | ......do | do.
Lebanon, City of, Warren County | 390557 | December 23, 1974, Emerg; March 15, 1979, Reg; December 17, 2010, Susp. | ......do | do.
Mason, City of, Warren County | 390559 | April 15, 1975, Emerg; March 15, 1979, Reg; December 17, 2010, Susp. | ......do | do.
Middletown, City of, Butler and Warren Counties | 390040 | June 13, 1975, Emerg; March 2, 1979, Reg; December 17, 2010, Susp. | ......do | do.
Millville, Village of, Butler County | 390041 | March 26, 1979, Emerg; February 4, 1981, Reg; December 17, 2010, Susp. | ......do | do.
Monroe, City of, Butler and Warren Counties | 390042 | August 18, 1975, Emerg; August 5, 1991, Reg; December 17, 2010, Susp. | ......do | do.
Somerville, Village of, Butler County | 390046 | N/A, Emerg; June 21, 1995, Reg; December 17, 2010, Susp. | ......do | do.
South Lebanon, Village of, Warren County | 390563 | January 23, 1975, Emerg; September 1, 1978, Reg; December 17, 2010, Susp. | ......do | do.
Springboro, City of, Warren County | 390564 | May 5, 1975, Emerg; February 4, 1981, Reg; December 17, 2010, Susp. | ......do | do.
Warren County, Unincorporated Areas | 390757 | January 3, 1975, Emerg; April 15, 1981, Reg; December 17, 2010, Susp. | ......do | do.
Waynesville, Village of, Warren County | 390565 | October 4, 1976, Emerg; August 1, 1980, Reg; December 17, 2010, Susp. | ......do | do.
Wisconsin: Bell Center, Village of, Crawford County | 550068 | August 16, 1978, Emerg; March 5, 1990, Reg; December 17, 2010, Susp. | ......do | do.
Crawford County, Unincorporated Areas | 555551 | March 19, 1971, Emerg; April 20, 1973, Reg; December 17, 2010, Susp. | ......do | do.
Ferryville, Village of, Crawford County | 555553 | April 16, 1971, Emerg; May 26, 1972, Reg; December 17, 2010, Susp. | ......do | do.
Gays Mills, Village of, Crawford County | 550071 | April 12, 1973, Emerg; June 15, 1978, Reg; December 17, 2010, Susp. | ......do | do.
Lynxville, Village of, Crawford County | 555563 | April 3, 1971, Emerg; March 16, 1973, Reg; December 17, 2010, Susp. | ......do | do.
Prairie du Chien, City of, Crawford County | 555573 | May 22, 1970, Emerg; May 22, 1970, Reg; December 17, 2010, Susp. | ......do | do.
Soldiers Grove, Village of, Crawford County | 550074 | April 9, 1971, Emerg; April 3, 1984, Reg; December 17, 2010, Susp. | ......do | do.
Steuben, Village of, Crawford County | 555580 | May 21, 1971, Emerg; April 20, 1973, Reg; December 17, 2010, Susp. | ......do | do.
Wauzeka, Village of, Crawford County | 555586 | April 9, 1971, Emerg; April 20, 1973, Reg; December 17, 2010, Susp. | ......do | do.
Region VI
Arkansas:
Camden, City of, Ouachita County | 050163 | December 30, 1971, Emerg; March 15, 1982, Reg; December 17, 2010, Susp. | ......do | do.
East Camden, City of, Ouachita County | 050164 | March 20, 1975, Emerg; August 24, 1981, Reg; December 17, 2010, Susp. | ......do | do.
Ouachita County, Unincorporated Areas | 050161 | November 29, 1983, Emerg; March 1, 1987, Reg; December 17, 2010, Susp. | ......do | do.
New Mexico:
Alamogordo, City of, Otero County | 350045 | April 7, 1975, Emerg; March 2, 1983, Reg; December 17, 2010, Susp. | ......do | do.
Cibola County, Unincorporated Areas | 350145 | September 15, 2000, Emerg; December 17, 2010, Reg; December 17, 2010, Susp. | ......do | do.
Grants, City of, Cibola County | 350090 | July 25, 1974, Emerg; July 5, 1982, Reg; December 17, 2010, Susp. | ......do | do.
Milan, Village of, Cibola County | 350093 | April 25, 1975, Emerg; July 5, 1982, Reg; December 17, 2010, Susp. | ......do | do.
Otero County, Unincorporated Areas | 350044 | August 7, 1975, Emerg; August 1, 1987, Reg; December 17, 2010, Susp. | ......do | do.
Zuni, Pueblo of, Catron, Cibola, and McKinley Counties. | 350143 | December 21, 1978, Emerg; September 4, 1987, Reg; December 17, 2010, Susp. | ......do | do.
Texas:
Browndell, Town of, Jasper County | 481542 | March 30, 1982, Emerg; July 3, 1985, Reg; December 17, 2010, Susp. | ......do | do.
Grand Saline, City of, Van Zandt County | 480634 | July 24, 1975, Emerg; November 23, 1982, Reg; December 17, 2010, Susp. | ......do | do.
Kirbyville, City of, Jasper County | 480384 | June 12, 1975, Emerg; September 18, 1986, Reg; December 17, 2010, Susp. | ......do | do.
Region VII
Iowa:
Baldwin, City of, Jackson County | 190428 | August 21, 1979, Emerg; June 18, 1987, Reg; December 17, 2010, Susp. | ......do | do.
Bellevue, City of, Jackson County | 190158 | April 21, 1975, Emerg; October 15, 1982, Reg; December 17, 2010, Susp. | ......do | do.
Jackson County, Unincorporated Areas | 190879 | August 17, 1979, Emerg; May 1, 1990, Reg; December 17, 2010, Susp. | ......do | do.
Maquoketa, City of, Jackson County | 190160 | September 10, 1976, Emerg; August 5, 1986, Reg; December 17, 2010, Susp. | ......do | do.
Miles, City of, Jackson County | 190779 | October 30, 2007, Emerg; December 17, 2010, Reg; December 17, 2010, Susp. | ......do | do.
Preston, City of, Jackson County | 190431 | N/A, Emerg; February 28, 1994, Reg; December 17, 2010, Susp. | ......do | do.
Sabula, City of, Jackson County | 190162 | April 22, 1974, Emerg; November 19, 1987, Reg; December 17, 2010, Susp. | ......do | do.
Kansas: Belleville, City of, Republic County | 200287 | September 28, 1976, Emerg; July 6, 1984, Reg; December 17, 2010, Susp. | ......do | do.
Hartford, City of, Lyon County | 200422 | November 15, 2007, Emerg; February 20, 2008, Reg; December 17, 2010, Susp. | ......do | do.
Scandia, City of, Republic County | 200289 | April 24, 1974, Emerg; July 16, 1979, Reg; December 17, 2010, Susp. | ......do | do.
Missouri:
Christian County, Unincorporated Areas | 290847 | September 30, 1999, Emerg; April 1, 2004, Reg; December 17, 2010, Susp. | ......do | do.
Clever, City of, Christian County | 290600 | July 30, 1976, Emerg; March 30, 1981, Reg; December 17, 2010, Susp. | ......do | do.
Fair Grove, City of, Greene County | 290591 | N/A, Emerg; January 30, 2004, Reg; December 17, 2010, Susp. | ......do | do.
Nixa, City of, Christian County | 290078 | April 22, 1983, Emerg; April 22, 1983, Reg; December 17, 2010, Susp. | ......do | do.
Ozark, City of, Christian County | 290079 | January 12, 1976, Emerg; February 1, 1985, Reg; December 17, 2010, Susp. | ......do | do.
Republic, City of, Christian and Greene Counties | 290148 | May 8, 1975, Emerg; June 4, 1980, Reg; December 17, 2010, Susp. | ......do | do.
Springfield, City of, Greene County | 290149 | April 12, 1974, Emerg; July 3, 1978, Reg; December 17, 2010, Susp. | ......do | do.
Strafford, City of, Greene County | 290506 | N/A, Emerg; July 30, 1999, Reg; December 17, 2010, Susp. | ......do | do.
Willard, City of, Greene County | 290653 | February 11, 1998, Emerg; October 10, 2003, Reg; December 17, 2010, Susp. | ......do | do.
Region VIII
Colorado:
Arapahoe County, Unincorporated Areas | 080011 | February 4, 1972, Emerg; August 15, 1977, Reg; December 17, 2010, Susp. | ......do | do.
Aurora, City of, Adams and Arapahoe Counties | 080002 | August 20, 1971, Emerg; June 1, 1978, Reg; December 17, 2010, Susp. | ......do | do.
Centennial, City of, Arapahoe County | 080315 | N/A, Emerg; December 11, 2002, Reg; December 17, 2010, Susp. | ......do | do.
Cherry Hills Village, City of, Arapahoe County | 080013 | January 23, 1974, Emerg; August 1, 1978, Reg; December 17, 2010, Susp. | ......do | do.
Columbine Valley, Town of, Arapahoe County | 080014 | May 18, 1973, Emerg; June 15, 1978, Reg; December 17, 2010, Susp. | ......do | do.
Englewood, City of, Arapahoe County | 085074 | February 26, 1971, Emerg; February 11, 1972, Reg; December 17, 2010, Susp. | ......do | do.
Glendale, City of, Arapahoe County | 080247 | N/A, Emerg; December 5, 2005, Reg; December 17, 2010, Susp. | ......do | do.
Greenwood Village, City of, Arapahoe County | 080195 | March 16, 1976, Emerg; January 5, 1978, Reg; December 17, 2010, Susp. | ......do | do.
Littleton, City of, Arapahoe County | 080017 | September 3, 1971, Emerg; December 1, 1978, Reg; December 17, 2010, Susp. | ......do | do.
Sheridan, City of, Arapahoe County | 080018 | February 4, 1972, Emerg; July 13, 1976, Reg; December 17, 2010, Susp. | ......do | do.
North Dakota:
Americus, Township of, Grand Forks County | 380064 | January 6, 2009, Emerg; December 17, 2010, Reg; December 17, 2010, Susp. | ......do | do.
Emerado, City of, Grand Forks County | 380034 | February 17, 1978, Emerg; February 19, 1986, Reg; December 17, 2010, Susp. | ......do | do.
Fairfield, Township of, Grand Forks County | 380102 | January 6, 2009, Emerg; December 17, 2010, Reg; December 17, 2010, Susp. | ......do | do.
Ferry, Township of, Grand Forks County | 380120 | January 6, 2009, Emerg; December 17, 2010, Reg; December 17, 2010, Susp. | ......do | do.
Gilby, City of, Grand Forks County | 380035 | March 11, 1997, Emerg; April 25, 1997, Reg; December 17, 2010, Susp. | ......do | do.
Grand Forks, City of, Grand Forks County | 385365 | March 19, 1971, Emerg; September 30, 1977, Reg; December 17, 2010, Susp. | ......do | do.
Grand Forks County, Unincorporated Areas | 380033 | May 13, 1974, Emerg; May 1, 1986, Reg; December 17, 2010, Susp. | ......do | do.
Lakeville, Township of, Grand Forks County | 380297 | January 6, 2009, Emerg; December 17, 2010, Reg; December 17, 2010, Susp. | ......do | do.
Manvel, City of, Grand Forks County | 380037 | February 21, 1997, Emerg; May 4, 1998, Reg; December 17, 2010, Susp. | ......do | do.
Mekinock, Township of, Grand Forks County | 380162 | N/A, Emerg; May 12, 2008, Reg; December 17, 2010, Susp. | ......do | do.
Oakville, Township of, Grand Forks County | 380272 | January 6, 2009, Emerg; December 17, 2010, Reg; December 17, 2010, Susp. | ......do | do.
Rye, Township of, Grand Forks County | 380298 | N/A, Emerg; December 3, 2009, Reg; December 17, 2010, Susp. | ......do | do.
Turtle River, Township of, Grand Forks County | 380299 | January 6, 2009, Emerg; December 17, 2010, Reg; December 17, 2010, Susp. | ......do | do.
*-do- = Ditto.
Code for reading third column: Emerg.—Emergency; Reg.—Regular; Susp.—Suspension.

Dated: November 16, 2010.
Sandra K. Knight,
Deputy Federal Insurance and Mitigation Administrator, Mitigation.

[FR Doc. 2010-29419 Filed 11-22-10; 8:45 am]

BILLING CODE 9110-12-P